DEPARTMENT OF HOMELAND SECURITY

Coast Guard

[USCG-2001-9267]

Shipboard Technology Evaluation Program

AGENCY: Coast Guard, DHS.

ACTION: Notice of availability.

SUMMARY: The U.S. Coast Guard is announcing an innovative program that will allow vessel owners/operators to apply for acceptance of vessels, permitting them to install and test experimental ballast water treatment systems. This program will facilitate the development of effective ballast water treatment technology, which will create more options for vessels seeking alternatives to ballast water exchange. Details of the program are published in Coast Guard Navigation and Vessel Inspection Circular (NVIC) 01-04.

DATES: This program is effective and the NVIC is available on January 7, 2004.

ADDRESSES: Applicants interested in receiving NVIC 01-04 and/or application documents for the Shipboard Technology Evaluation Program should send requests to the U.S. Coast Guard Headquarters (G-MSO-4), Room 1601, 2100 2nd Street SW., Washington DC 20593. The NVIC is also located at: http://www.uscg.mil/hq/g-m/nvic/. This NVIC is also available in the public docket (USCG-2001-9267) and is available for inspection or copying at the Docket Management Facility, U.S. Department of Transportation, room PL-402, 400 Seventh Street SW., Washington, DC, between 9 a.m. and 5 p.m., Monday through Friday, except Federal holidays. You may also find this public docket on the Internet at http://dms.dot.gov/.

FOR FURTHER INFORMATION CONTACT: If you have questions on this Notice, call Mr. Bivan Patnaik, Environmental Standards Division, Coast Guard, telephone 202-267-1744, e-mail: bpatnaik@comdt.uscg.mil.

SUPPLEMENTARY INFORMATION: Nonindigenous species (NIS) are being unintentionally introduced into U.S. waters via ballast water discharge. These introductions are posing a serious threat to biological diversity, coastal infrastructures, and marine and freshwater resources. As a result, the Coast Guard has established the Shipboard Technology Evaluation Program (STEP). STEP will facilitate the development of experimental ballast water treatment technologies, and allow the Coast Guard to evaluate these technologies.

This will greatly assist the Coast Guard in evaluating ballast water treatment technologies to prevent the introduction and spread of NIS. For more information on this program, contact us as indicated in FOR FURTHER INFORMATION CONTACT. Please note that information on STEP, application procedures, and the NVIC 01-04 can be found at http://www.uscg.mil/hq/g-m/mso/mso4/ans.html.

Dated: December 23, 2003.
Joseph J. Angelo,
Acting Assistant Commandant for Marine, Safety, Security and Environmental Protection.

[FR Doc. 04-338 Filed 1-6-04; 8:45 am]

BILLING CODE 4910-15-P